DEPARTMENT OF TRANSPORTATION

Federal Aviation Administration

14 CFR Part 39

[Docket No. FAA-2014-0058; Directorate Identifier 2013-NM-116-AD]

RIN 2120-AA64

Airworthiness Directives; Airbus Airplanes

AGENCY: Federal Aviation Administration (FAA), DOT.

ACTION: Notice of proposed rulemaking (NPRM).

SUMMARY: We propose to supersede airworthiness directive (AD) 94-12-03 that applies to certain Airbus Model A320 series airplanes. AD 94-12-03 requires modification of the belly fairing structure. Since we issued AD 94-12-03, fatigue testing of Model A320 series airplanes showed cracks at the lower riveting of the four titanium angles that connect the belly fairing to the keel beam side panels on both sides of the fuselage. This proposed AD also would require repetitive inspections for cracking of the four titanium angles between the belly fairing and the keel beam side panel, an inspection for cracking of the open holes if any cracking is found, and repair or replacement if necessary. This proposed AD would also expand the applicability of AD 94-12-03. We are proposing this AD to detect and correct cracking of the titanium angles that connect the belly fairing to the keel beam side panels on both sides of the fuselage, which could affect the structural integrity of the airplane.

DATES: We must receive comments on this proposed AD by April 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0058; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Comments Invited

We invite you to send any written relevant data, views, or arguments about this proposed AD. Send your comments to an address listed under the ADDRESSES section. Include “Docket No. FAA-2014-0058; Directorate Identifier 2013-NM-116-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On May 26, 1994, we issued AD 94-12-03, Amendment 39-8930 (59 FR 28763, June 3, 1994). AD 94-12-03 superseded AD 93-24-11, Amendment 39-8760 (58 FR 64875, December 10, 1993). AD 94-12-03 requires actions intended to address an unsafe condition on Airbus Model A320 series airplanes having serial numbers 0003 through 0092 inclusive. These serial numbers apply to Model A320-111, -211, and -231 series airplanes.

Since we issued AD 94-12-03, Amendment 39-8930 (59 FR 28763, June 3, 1994), The European Aviation Safety Agency (EASA), which is the Technical Agent for the Member States of the European Community, has issued EASA Airworthiness Directive 2013-0122, dated June 5, 2013 (referred to after this as the Mandatory Continuing Airworthiness Information, or “the MCAI”), to correct an unsafe condition for the specified products. The MCAI states:

During the fatigue test campaign of the A320 family type design, cracks have been found at the lower riveting of the four titanium angles which connect the belly fairing to the keel beam side panels between frames FR40 and FR42, on both sides of the fuselage.

This condition, if not detected and corrected, could affect the structural integrity of the aeroplane.

In 1992, DGAC France issued AD 92-201-030 (http://ad.easa.europa.eu/blob/19922010tb_superseded.pdf/AD_F-1992-201-030_1) (which corresponds to FAA AD 94-12-03, Amendment 39-8930 (59 FR 28763, June 3, 1994)) to require reinforcement of the belly fairing structure, which addressed part of the unsafe condition.

For the reason described above, this [EASA] AD retains the requirements of DGAC France AD 92-201-030, which is superseded, and requires repetitive detailed inspections [for cracking] of the affected titanium angles and, depending on findings, repair or replacement of parts.

As an option to extend the repetitive inspection interval, after the first detailed inspection is accomplished and on condition of no crack findings, this proposed AD would allow operators to remove the four titanium angles, perform a rototest for cracking on the open holes and, provided no cracks are found, install new titanium angles, followed by post-modification detailed inspections of the new titanium angles.

For any titanium angle crack findings, this proposed AD would require removing any cracked angle, performing a rototest for cracking on the open holes and, provided no cracks are found, installing a new titanium angle, followed detailed inspections of the new titanium angles.

For any hole cracking found during any rototest, this proposed AD would require repair.

This proposed AD expands the applicability of AD 94-12-03, Amendment 39-8930 (59 FR 28763, June 3, 1994) to include all Airbus Model A318, Model A319, Model A320, and Model A321 series airplanes.

You may examine the MCAI in the AD docket on the Internet at http://www.regulations.gov by searching for and locating it in Docket No. FAA-2014-0058.

Relevant Service Information

Airbus has issued Service Bulletin A320-53-1014, Revision 02, dated September 1, 1994; and Service Bulletin A320-53-1259, dated November 6, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Repair Approvals

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, this proposed AD would require that the repair approval specifically refer to the FAA AD. This change is intended to clarify the method of compliance and to provide operators with better visibility of repairs that are specifically developed and approved to correct the unsafe condition. In addition, we use the phrase “its delegated agent, or by the DAH with State of Design Authority design organization approval, as applicable” in this proposed AD to refer to an DAH authorized to approve required repairs for this proposed AD.

Costs of Compliance

We estimate that this proposed AD affects 851 airplanes of U.S. registry.

The actions that are required by AD 94-12-03, Amendment 39-8930 (59 FR 28763, June 3, 1994), and retained in this proposed AD take about 288 work-hours per product, at an average labor rate of $85 per work-hour. Required parts cost about $1,045 per product. Based on these figures, the estimated cost of the actions that were required by AD 94-12-03 is $25,525 per product.

We also estimate that it would take about 7 work-hours per product to comply with the basic requirements of this proposed AD. The average labor rate is $85 per work-hour. Based on these figures, we estimate the cost of this proposed AD on U.S. operators to be $506,345, or $595 per product.

We have received no definitive data that would enable us to provide cost estimates for the on-condition actions and optional action costs specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 94-12-03, Amendment 39-8930 (59 FR 28763, June 3, 1994), and adding the following new AD:

Airbus: Docket No. FAA-2014-0058; Directorate Identifier 2013-NM-116-AD.

(a) Comments Due Date

We must receive comments by April 14, 2014.

(b) Affected ADs

This AD supersedes AD 94-12-03, Amendment 39-8930 (59 FR 28763, June 3, 1994).

(c) Applicability

This AD applies to the Airbus airplanes specified in paragraphs (c)(1) through (c)(4) of this AD, certificated in any category, all manufacturer serial numbers.

(1) Airbus Model A318-111, -112, -121, and -122 airplanes.

(2) Airbus Model A319-111, -112, -113, -114, -115, -131, -132, and -133 airplanes.

(3) Airbus Model A320-111, -211, -212, -214, -231, -232, and -233 airplanes.

(4) Airbus Model A321-111, -112, -131, -211, -212, -213, -231, and -232 airplanes.

(d) Subject

Air Transport Association (ATA) of America Code 53, Fuselage.

(e) Reason

This AD was prompted by reports of cracks at the lower riveting of the four titanium angles that connect the belly fairing to the keel beam side panels on both sides of the fuselage. We are issuing this AD to detect and correct cracking of the titanium angles that connect the belly fairing to the keel beam side panels on both sides of the fuselage, which could affect the structural integrity of the airplane.

(f) Compliance

You are responsible for having the actions required by this AD performed within the compliance times specified, unless the actions have already been done.

(g) Retained Modification

This paragraph restates the requirements of paragraph (a) of AD 94-12-03, Amendment 39-8930 (59 FR 28763, June 3, 1994), with new service information. For Model A320-111, -211, and -231 series airplanes, manufacturer serial numbers 0003 through 0092 inclusive: Prior to the accumulation of 12,000 total landings on the airplane, or within 300 days after January 10, 1994 (the effective date of AD 93-24-11, Amendment 39-8760 (58 FR 64875, December 10, 1993)), whichever occurs later, modify the belly fairing structure, in accordance with the Accomplishment Instructions of an Airbus service bulletin specified in paragraph (g)(1), (g)(2), or (g)(3) of this AD. As of the effective date of this AD, use only the Airbus service bulletin specified in paragraph (g)(3) of this AD.

(1) Airbus Service Bulletin A320-53-1014, dated June 25, 1992.

(2) Airbus Service Bulletin A320-53-1014, Revision 1, dated May 26, 1993.

(3) Airbus Service Bulletin A320-53-1014, Revision 2, dated September 1, 1994.

(h) New Requirement of This AD: Repetitive Inspection

At the latest of the compliance times specified in paragraphs (h)(1), (h)(2), and (h)(3) of this AD: Do a detailed inspection for cracking of the four titanium angles between the belly fairing and the keel beam side panel, in accordance with the Accomplishment Instructions of Airbus Service Bulletin A320-53-1259, dated November 6, 2012.

(1) Before the accumulation of 30,000 total flight cycles or 60,000 total flight hours, whichever occurs first after first flight of the airplane.

(2) Within 30,000 flight cycles or 60,000 flight hours, whichever occurs first after modification of the airplane as required by paragraph (g) of this AD, or after installation of new titanium angles, provided that, prior to installation, a rototest for cracking on the open holes has been accomplished with no crack findings, in accordance with the Accomplishment Instructions of Airbus Service Bulletin A320-53-1259, dated November 6, 2012.

(3) Within 3,000 flight cycles or 6,000 flight hours, whichever occurs first after the effective date of this AD.

(i) New Requirement of This AD: Post-Inspection Actions for No Crack Findings

If, during any inspection required by paragraph (h) of this AD, there is no crack finding: Accomplish the actions specified in either paragraph (i)(1) or (i)(2) of this AD.

(1) Repeat the inspection required by paragraph (h) of this AD at intervals not to exceed 5,000 flight cycles or 10,000 flight hours, whichever occurs first.

(2) Before further flight after the inspection required by paragraph (h) of this AD, remove all inspected titanium angles, accomplish a rototest for cracking on the open holes and, provided no cracks are found, install new titanium angles, in accordance with the Accomplishment Instructions of Airbus Service Bulletin A320-53-1259, dated November 6, 2012.

(j) New Requirement of This AD: Post-Inspection Actions for Any Crack Findings

If, during any inspection required by paragraph (h) of this AD, there is any crack finding: Before further flight, remove the affected titanium angle(s), accomplish a rototest for cracking on the open holes, and, provided no cracks are found, install new titanium angles, in accordance with the Accomplishment Instructions of Airbus Service Bulletin A320-53-1259, dated November 6, 2012.

(k) New Requirement of This AD: Post-Installation Repetitive Inspections

For airplanes on which new titanium angles were installed as specified in paragraph (i)(2) or (j) of this AD: Within 30,000 flight cycles or 60,000 flight hours, whichever occurs first after the installation: Accomplish a detailed inspection for cracking of the four titanium angles between the belly fairing and the keel beam side panel, in accordance with the Accomplishment Instructions of Airbus Service Bulletin A320-53-1259, dated November 6, 2012. Repeat the inspection thereafter at intervals not to exceed 5,000 flight cycles or 10,000 flight hours, whichever occurs first.

(l) New Requirement of This AD: Post Inspection Actions for Any Crack Findings During Post-Installation Inspections

If, during any inspection as required by paragraph (k) of this AD, there is any crack finding: Before further flight, remove the affected titanium angles, accomplish a rototest for cracking on the open holes, and, provided no cracks are found, install new titanium angles, in accordance with the Accomplishment Instructions of Airbus Service Bulletin A320-53-1259, dated November 6, 2012.

(m) New Requirement of This AD: Corrective Action for Rototest Crack Finding

If, during any rototest as required by paragraph (i), (j), or (l) of this AD, any crack is found: Before further flight, repair using a method approved by the Manager, International Branch, ANM-116, Transport Airplane Directorate, FAA; or the European Aviation Safety Agency (EASA) (or its delegated agent, or by the Design Approval Holder (DAH) with EASA design organization approval, as applicable). For a repair method to be approved, the repair approval must specifically refer to this AD.

(n) New Provision of This AD: No Termination Action for Repetitive Inspections

Repair or replacement of parts as specified in this AD does not terminate the repetitive inspections required by this AD.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227 1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA approved. Corrective actions are considered FAA-approved if they were approved by the State of Design Authority (or its delegated agent, or the Design Approval Holder with a State of Design Authority's design organization approval, as applicable). You are required to ensure the product is airworthy before it is returned to service.

(p) Related Information

(1) Refer to Mandatory Continuing Airworthiness Information (MCAI) European Aviation Safety Agency Airworthiness Directive 2013-0122, dated June 5, 2013, for related information. This MCAI may be found in the AD docket on the Internet at http://www.regulations.gov by searching for and locating Docket No. FAA-2014-0058.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on: February 18, 2014.
Ross Landes,
Acting Manager, Transport Airplane Directorate, Aircraft Certification Service.

[FR Doc. 2014-04140 Filed 2-25-14; 8:45 am]

BILLING CODE 4910-13-P